SECURITIES AND EXCHANGE COMMISSION

[File No. 500-1]

In the Matter of Suburban Minerals Corp.; Order of Suspension of Trading

March 7, 2014.

It appears to the Securities and Exchange Commission that there is a lack of current and accurate information concerning the securities of Suburban Minerals Corp. because of questions regarding the accuracy of publicly available information about the company's operations.

The Commission is of the opinion that the public interest and the protection of investors require a suspension of trading in the securities of the above-listed company.

Therefore, it is ordered, pursuant to Section 12(k) of the Securities Exchange Act of 1934, that trading in the securities of the above-listed company is suspended for the period from 9:30 a.m. EST on March 7, 2014, through 11:59 p.m. EDT on March 20, 2014.

By the Commission.
Jill M. Peterson,
Assistant Secretary.

[FR Doc. 2014-05343 Filed 3-7-14; 11:15 am]

BILLING CODE 8011-01-P